DEPARTMENT OF JUSTICE

Notice of Lodging of Consent Decree Under the Comprehensive Environmental Response Compensation and Liability Act

Notice is hereby given that on May 23, 2001, a proposed Consent Decree (proposed Decree) in United States v. Holmes & Co., Inc., Civil Action No. 1:01-CV-198, was lodged with the United States District Court for the Northern District of Indiana (Fort Wayne Division).

In this action the United States seeks relief under Section 107 of the Comprehensive Environmental Response, Compensation, and Liability Act (CERCLA), 42 U.S.C. 9607, for recovery of response costs relating to releases of hazardous substances at the Wayne Reclamation and Recycling Site (Site), located near Columbia City, Indiana.

The proposed Decree would resolve certain liability of Holmes & Company, Inc., regarding the Site. Holmes & Co. is alleged to be the owner and operator of portions of the property that make up the Site.

Under the proposed Decree Holmes & Co. receives, among other things, certain contribution protection for response costs incurred and to be incurred in cleaning up the Site, as well as covenants not to sue from the United States under sections 106 and 107(a) of CERCLA and under section 7003 of the Resource Conservation Act (RCRA), subject to various reservations and re-openers.

The State of Indiana, which also has filed a complaint against Holmes & Co. in the same Court concerning this same Site, also is party to the proposed Decree. Under the proposed Decree the State would resolve certain claims it may have against Holmes & Co. regarding the Site.

Under the Decree, Holmes & Co. will, among other things, provide access to portions of the Site and also will place certain environmental easements and institutional controls on certain property that is part of the Site. To resolve certain contribution litigation brought against Holmes & Co. by other, potentially responsible parties who settled previously with the United States and the State and who have helped undertake remedial action at the Site, Holmes & Co. will pay those potentially responsible parties about $70,000 under this Decree and thus resolve that contribution litigation.

The Department of Justice will receive for a period of thirty (30) days from the date of this publication comments relating to the proposed Decree. Comments should be addressed to the Acting Assistant Attorney General of the Environment and Natural Resources Division, U.S. Department of Justice, P.O. Box 7611, Washington, DC 20044-7611, and should refer to United States v. Holmes & Co., Inc., Civil Action No. 1:01-CV-198, D.J. Ref. 90-11-3-603B. Commenters may request an opportunity for a public meeting in the affected area, in accordance with Section 7003(d) of RCRA, 42 U.S.C. 6973(d).

A copy of the proposed Decree may be examined at the Office of the United States Attorney, 3128 Federal Building, 1300 S. Harrison Street, Fort Wayne, Indiana 46802, and at the Office of Regional Counsel, U.S. EPA Region 5, Chicago, Illinois. a copy of the proposed Consent Decree may be obtained by mail from the Consent Decree Library, P.O. Box 7611, Washington, DC 20044-7611. When requesting a copy please refer to United States v. Holmes & Co., Inc. (N.D. Ind.) DOJ Ref. No. 90-11-3-603B and enclose a check in the amount of $13.25 (25 cents per page reproduction costs, for the decree and all its appendices), payable to the Consent Decree Library.

Thomas A. Mariani, Jr.,
Assistant Chief, Environmental Enforcement Section, Environment and Natural Resources Division.

[FR Doc. 01-16593 Filed 6-29-01; 8:45 am]

BILLING CODE 4410-15-M